DEPARTMENT OF EDUCATION

34 CFR Part 200

[Docket ID ED-2013-OESE-0018]

Title I—Improving the Academic Achievement of the Disadvantaged

AGENCY: Office of Elementary and Secondary Education, Department of Education.

ACTION: Notice of proposed rulemaking; notice to reopen the public comment period.

SUMMARY: On August 23, 2013, we published in the Federal Register (78 FR 52467) a notice of proposed rulemaking regarding modified academic achievement standards and alternate assessments based on those modified academic achievement standards. This notice established an October 7, 2013, deadline for the submission of written comments. We are reopening the public comment period for seven days.

DATES: For the proposed rule published on August 23, 2013 (78 FR 52467), written submissions must be received by the Department on or before November 26, 2013.

ADDRESSES: Submit your comments through the Federal eRulemaking Portal or via U.S. mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• U.S. Mail, Commercial Delivery, or Hand Delivery: If you mail or deliver your comments about the proposed amendments, address them to Monique Chism, Director, Student Achievement and School Accountability Programs, Office of Elementary and Secondary Education, Attention: AA-MAAS NPRM, U.S. Department of Education, 400 Maryland Avenue SW., Room 3W224, Washington, DC 20202-6132.

Privacy Note: The Department's policy is to make all comments received from members of the public available for public viewing in their entirety on the Federal eRulemaking Portal at www.regulations.gov. Therefore, commenters should be careful to include in their comments only information that they wish to make publicly available.

FOR FURTHER INFORMATION CONTACT: Carlos Martinez, U.S. Department of Education, 400 Maryland Avenue SW., Room 3W104, Washington, DC 20202-6132. Telephone: 202-260-1440.

If you use a telecommunications device for the deaf (TDD) or a text telephone (TTY), call the Federal Relay Service (FRS), toll free, at 1-800-877-8339.

SUPPLEMENTARY INFORMATION:

Background: On August 23, 2013, we published a notice of proposed rulemaking in the Federal Register (78 FR 52467), proposing to amend the regulations governing Title I, Part A of the Elementary and Secondary Education Act of 1965, as amended (ESEA) (the “Title I regulations”), to no longer authorize a State, in satisfying ESEA accountability requirements, to define modified academic achievement standards and develop alternate assessments based on those modified academic achievement standards. These proposed amendments would permit, as a transitional measure and for a limited period of time, States that administered alternate assessments based on modified academic achievement standards in the 2012-13 school year to continue to administer alternate assessments based on modified academic achievement standards and include the results in adequate yearly progress (AYP) calculations, subject to limitations on the number of proficient scores that may be counted for AYP purposes. The notice of proposed rulemaking established an October 7, 2013, deadline for the submission of written comments. Though the Federal eRulemaking Portal was in operation during the recent government shutdown, which included the final seven days of the original public comment period, we recognize that interested parties reasonably may have believed that the government shutdown resulted in a shutdown of the public comment period. To ensure that all interested parties are provided the opportunity to submit comments, we are reopening the public comment period for seven days.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: November 14, 2013.
Deborah S. Delisle,
Assistant Secretary for Elementary and Secondary Education.

[FR Doc. 2013-27699 Filed 11-18-13; 8:45 am]

BILLING CODE 4000-01-P